DEPARTMENT OF COMMERCE

National Institute of Standards and Technology

[Docket No.: 080122071-8073-01]

Notice and Request for Comments on Proposed Establishment of a Laboratory Accreditation Program for Laboratories Performing Interoperability, Performance, and Conformance Biometrics Testing Under the National Voluntary Laboratory Accreditation Program

AGENCY: National Institute of Standards and Technology, Commerce.

ACTION: Notice and Request for Comments.

SUMMARY: The National Institute of Standards and Technology (NIST) publishes this notice requesting comments on the proposed establishment of an accreditation program for laboratories that perform biometric testing including interoperability, performance, and conformance using internationally recognized standards developed by the American National Standards Institute (ANSI), NIST, and by the International Committee for Information Technology Standards (INCITES). Additional standards may be identified throughout the development of the accreditation program technical requirements.

DATES: Comments must be received by March 31, 2008.

ADDRESSES: National Voluntary Laboratory Accreditation Program, 100 Bureau Drive, Stop 2140, Gaithersburg, MD 20899-2140 or by sending e-mail to: nvlap@nist.gov.

FOR FURTHER INFORMATION CONTACT: Brad Moore, Program Manager, NIST/NVLAP, 100 Bureau Drive, Stop 2140, Gaithersburg, MD 20899-2140, Phone: (301) 975-5740 or e-mail: brad.moore@nist.gov. Information regarding National Voluntary Laboratory Accreditation Program (NVLAP) and the accreditation process can be obtained from http://www.nist.gov/nvlap.

SUPPLEMENTARY INFORMATION:

Background

The United States Department of Homeland Security (DHS) requested that NIST establish a laboratory accreditation program for laboratories performing interoperability, performance and conformance biometrics testing on Personal Identification Verification equipment used in Homeland Security Applications. Biometric technologies such as facial, fingerprint, retinal, and voice recognitions are used to verify the identity of individuals attempting to gain access to secure areas. The purpose of the proposed Biometrics Laboratory Accreditation Program is to evaluate testing laboratories' technical competencies against known standards and testing criteria that will ultimately be used to provide confidence in the performance of biometric sub-systems.

Upon the request from DHS, NVLAP requests comments on the proposed establishment of an accreditation program for laboratories performing interoperability, performance, and conformance biometrics testing. This notice is issued in accordance with NVLAP procedures and general requirements, found in title 15 part 258 of the Code of Federal Regulations. NIST will also consult with interested parties through public workshops that will be announced at a later date.

Technical Requirements for the Accreditation Process

NVLAP accreditation criteria are established in accordance with the Code of Federal Regulations (CFR, Title 15, Part 285). NVLAP accreditation is in full conformance with the standards of the International Organization for Standards (ISO) and the International Electrotechnical Commission Standardization (IEC), including ISO/IEC 17025.

Accreditation will be granted to a laboratory following successful completion of a process, which will include submission of an application and payment of fees by the laboratory, an on-site assessment by technical experts, resolution of any nonconformities identified during the on-site assessment, and participation in proficiency testing. The accreditation will be formalized though insurance of a Certificate of Accreditation and Scope of Accreditation.

NVLAP provides an unbiased, third-party evaluation and recognition of competence. NVLAP accreditation signifies that a laboratory has demonstrated that it operates in accordance with NVLAP management and technical requirements pertaining to quality systems, personnel, accommodation and environment, test and calibration methods, equipment, measurement traceability, sampling, handling of test and calibration items, and test and calibration reports.

NVLAP accreditation does not imply any guarantee (certification) of laboratory performance or test/calibration data. NVLAP accreditation is a finding of laboratory competence.

Paperwork Reduction Act Clearance: This action contains a collection of information requirements subject to review and approval by the Office of Management and Budget (OMB) under the Paperwork Reduction Act (PRA) of 1995. Collection activities for NVLAP are currently approved by OMB under control number 0693-0003. Notwithstanding any other provision of the law, no person is required to respond to, nor shall any person be subject to a penalty for failure to comply with a collection of information unless it displays a currently valid OMB Control Number.

E.O. 12866: This action has been determined to be not significant under Executive Order 12866.

Dated: February 22, 2008.
Richard F. Kayser,
Acting Deputy Director.

[FR Doc. E8-3938 Filed 2-28-08; 8:45 am]

BILLING CODE 3510-13-P